DEPARTMENT OF LABOR

Employment and Training Administration

[TA-W-60,078]

Weyerhaeuser Company; Lebanon Lumber Division; Lebanon, OR; Notice of Negative Determination on Reconsideration

On December 15, 2006, the Department issued an Affirmative Determination Regarding Application for Reconsideration for the workers and former workers of Weyerhaeuser Company, Lebanon Lumber Division, Lebanon, Oregon (the subject firm). The Department's Notice of affirmative determination was published in the Federal Register on December 21, 2006 (71 FR 76700).

The initial denial of the workers' eligibility to apply for Trade Adjustment Assistance (TAA) and Alternative Trade Adjustment Assistance (ATAA) was based on the Department's findings that the workers produce green softwood stud lumber; the subject firm neither imported green softwood stud lumber nor shifted production of green softwood stud lumber overseas during the relevant period; and the subject firm's major declining customers had negligible imports of green softwood stud lumber during the surveyed periods. The Department's Notice of determination was issued on October 19, 2006 and published in the Federal Register on November 6, 2006 (71 FR 65004).

The request for reconsideration, filed by the United Brotherhood of Carpenters and Joiners of America, Carpenters Industrial Council, Local 2791 (Union), alleges that Weyerhaeuser Company purchased a softwood lumber production facility in Canada, inferring that the subject firm has increased imports of lumber or articles like or directly competitive with lumber produced at the subject facility.

During the reconsideration investigation, the Department discussed the allegations with the Union, sought clarification from the subject firm regarding Weyerhaeuser Company's Canadian lumber production facilities, and conducted a customer survey regarding imports of stud lumber and articles like or directly competitive with stud lumber produced at the subject firm during the relevant period.

During the reconsideration investigation, the Department determined that kiln-dried lumber and engineered wood products are like or directly competitive with green stud lumber. As such, the Department conducted an expanded customer survey to determine whether the subject firm's major declining customers had increased import purchases of green stud lumber and articles like or directly competitive with green stud lumber produced at the subject firm. The survey revealed no increased imports of green stud lumber or articles like or directly competitive with green stud lumber during the surveyed periods.

The reconsideration investigation also revealed that, contrary to the Union's allegation, Weyerhaeuser Company has not purchased any lumber production facilities in Canada during the relevant period. Further, an August 23, 2006 Weyerhaeuser Company news release (attached to the petition) states that the subject firm was replaced by a new, “world-class” sawmill in the Lebanon, Oregon area.

In the request for reconsideration, the Union requested that the Department review the articles submitted with the petition and the findings by the U.S. International Trade Commission (USITC) regarding Investigation Nos. 701-TA-414 and 731-TA-928.

“Increased imports means that imports have increased either absolutely or relative to domestic production compared to a representative base period. The representative base period shall be one year consisting of the four quarters immediately preceding the date which is twelve months prior to the date of the petition.” 29 CFR Section 90.2 Because the petition is dated September 13, 2006, the Department determines that the relevant period is September 2005 through August 2006.

While “News Release,” Weyerhaeuser, August 23, 2006, states that Weyerhaeuser Company “operates lumber mills in eight states and four provinces in Canada,” it does not infer any shift of production to Canada or increased imports from Canada. Further, the article explains that the new sawmill to which production is shifting is also in the Lebanon, Oregon area.

While Weyerhaeuser Company's “Forward Looking Statement” (July 25, 2006) acknowledges that Weyerhaeuser Company has concerns about its third quarter 2006 performance, it does not infer any shift of production to Canada or increased imports from Canada.

Although “News Release,” Weyerhaeuser, July 25, 2006, states that second quarter 2006 earnings are lower than second quarter 2005 earnings, the article also states that costs Weyerhaeuser Company incurred on Canadian softwood lumber sold into the U.S. in the second quarter of 2006 were lower than first quarter 2006.

“Coalition for Fair Lumber Imports: WTO Again Rejects Canadian Attack on Softwood Lumber Duties,” Coalition for Fair Lumber Imports, April 13, 2006, states that the World Trade Organization Appellate Body's decision to support an ITC determination (issued on November 24, 2004) that U.S. lumber producers are threatened with material injury by imports of dumped and subsidized softwood lumber from Canada is correct. However, because the events relevant to the ITC's determination occurred outside the relevant period, it cannot be a basis for the subject workers' eligibility to apply for TAA.

Similarly, because data in the International Trade Report, December 2004, and the USITC determination (issued July 30, 2004) regarding Investigation Nos. 701-TA-414 and 731-TA-928, fall outside the relevant time period, they cannot be a basis for the subject workers' eligibility to apply for TAA.

In order for the Department to issue a certification of eligibility to apply for ATAA, the subject worker group must be certified eligible to apply for TAA. Since the subject workers are denied eligibility to apply for TAA, the workers cannot be certified eligible for ATAA.

Conclusion

After careful reconsideration, I affirm the original notice of negative determination of eligibility to apply for worker adjustment assistance for workers and former workers of Weyerhaeuser Company, Lebanon Lumber Division, Lebanon, Oregon.

Signed at Washington, DC this 14th day of March 2007
Elliott S. Kushner,
Certifying Officer, Division of Trade Adjustment Assistance.

[FR Doc. E7-5237 Filed 3-21-07; 8:45 am]

BILLING CODE 4510-FN-P